ENVIRONMENTAL PROTECTION AGENCY

[EPA-EPA-HQ-ORD-2021-0601; FRL-9066-01-ORD]

Proposed Information Collection Request; Comment Request; Information Collection Request for Underground Storage Tank Finder Application

AGENCY: Environmental Protection Agency (EPA).

ACTION: Notice.

SUMMARY: The Environmental Protection Agency (EPA) is planning to submit an information collection request (ICR), “Underground Storage Tank Finder Application” (EPA ICR No. 2696.01-NEW, OMB Control No. 2050-NEW) to the Office of Management and Budget (OMB) for review and approval in accordance with the Paperwork Reduction Act (PRA). Before doing so, EPA is soliciting public comments on specific aspects of the proposed information collection as described below. This is a request for approval of a new collection. An Agency may not conduct or sponsor and a person is not required to respond to a collection of information unless it displays a currently valid OMB control number.

DATES: Comments must be submitted on or before November 14, 2022.

ADDRESSES: Submit your comments, referencing Docket ID No. EPA-HQ-ORD-2021-0601, online using https://www.regulations.gov (our preferred method), by email to Docket_ORD@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Alexander Hall Office of Research and Development, Center for Environmental Solutions and Emergency Response, Environmental Protection Agency, 26 West Martin Luther King Drive., Cincinnati, OH 45268; 513-569-7374, hall.alexander@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit https://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The EPA recently developed the Underground Storage Tank (UST) Finder application (hereafter “UST Finder”). UST Finder is a publicly available web map application containing a comprehensive, state-sourced national map of UST and leaking underground storage tank (LUST) data. UST Finder is available via EPA's GeoPlatform at https://gispub.epa.gov/ustfinder. UST Finder provides users access to information on the attributes and locations of active and closed USTs, UST facilities, and LUSTs in states in a geographic information system (GIS) environment. The application provides users with geospatial information about UST facilities and LUST sites, resulting in better understanding and assessment of vulnerability to human health and the environment. UST Finder also contains information about proximity of UST facilities and LUST sites to surface and groundwater public drinking water protection areas; the estimated number of private domestic wells and number of people living nearby; and areas prone to floods, wildfires, earthquakes, and other hazards. UST Finder may be used to import additional geospatial data layers of interest or to export UST facility and LUST site information for use by other software programs. The underlying data accessible in UST Finder are publicly available and free to use.

This information collection relates to information that state and territorial agencies already collect from UST and LUST owners and operators as part of their customary business practice to manage their compliance and enforcement programs. To successfully implement, maintain, and improve the data quality and usability of UST Finder, the Agency seeks to gather, on a voluntary basis, information from state and territorial agencies that oversee UST/LUST programs. Specifically, EPA will request that these agencies provide location and other relevant data about USTs and LUSTs that is already being collected and managed by states and territories. The UST Finder application may be used for many purposes, such as helping regulators, owners, and operators in decision-making; prioritizing site cleanups or inspections; triaging risk; and identifying sites that may be more likely to have a release based on UST age and substance stored. The application may also be used by emergency response personnel to protect UST facilities from extreme weather events. After disasters, the UST Finder can be used to rapidly identify LUST site cleanups impacted by natural disasters and assist in restarting cleanups after these events.

In order to have a dynamic database that provides more detailed and current data, the EPA intends to request UST/LUST data from state and territorial agencies that oversee UST/LUST programs. This information collection is voluntary and does not require the agencies to collect additional data on USTs/LUSTs beyond the data elements that are already being collected through their previously implemented programs. States and territories will decide the extent of information to be provided. The EPA intends to implement four options for collecting the UST/LUST data from states and territories: (1) by developing an Exchange server or other automated service through which states can “push” their data to the EPA, (2) by developing a link to the agencies' pre-existing electronic service used to maintain public websites such that the EPA can “pull” the data, (3) by allowing states and territories to submit existing databases or spreadsheets through an approved file sharing method, or (4) by EPA obtaining publicly available data from state and territory public agency websites (an option that will be exercised if states and territories do not voluntarily submit their data). For all data transfer options, the EPA will standardize, curate, and enter records into the UST Finder application. The EPA does not intend to collect any data that would be considered confidential business information.

Form Numbers: None.

Respondents/affected entities: States and territories with delegated authority to operate UST and LUST programs under 40 CFR parts 280, 281, 282, and 40 CFR 302.4.

Respondent's obligation to respond: Voluntary.

Estimated number of respondents: 56 (total).

Frequency of response: Semiannually.

Total estimated burden: 3,470 hours (per year). Burden is defined at 5 CFR 1320.03(b).

Total estimated cost: $175,000 (per year), includes $0 annualized capital or operation and maintenance costs.

Changes in Estimates: This is a new information collection, therefore, there are no previous burden estimates. The estimated burden reflects assumptions based on Agency experience from the development of the UST Finder application, consultation with affected entities, and any comments received. Should the EPA request to extend this information collection 3 years from now, changes in burden will be evaluated at that time.

Charlotte Coleman,
Deputy Director, Center for Environmental Solutions and Emergency Response (CESER), Office of Research and Development.

[FR Doc. 2022-19895 Filed 9-14-22; 8:45 am]

BILLING CODE 6560-50-P